DEPARTMENT OF ENERGY

Federal Energy Regulatory Commission

[Docket No. MT00-11-000]

Midcoast Gas Transmission, Inc.; Notice of Proposed Changes in FERC Gas Tariff

July 26, 2000.

Take notice that on July 20, 2000, Midcoast Gas Transmission, Inc. (MIT) tendered for filing as part of FERC Gas Tariff, Second Revised Volume No. 1, the following the tariff sheets, with an effective date of August 20, 2000:

Fifth Revised Sheet No. 148

Fourth Revised Sheet No. 149

Fourth Revised Sheet No. 150

MIT states that the primary purpose of the filing Revised Tariff sheets is to update its tariff to reflect recent changes in shared personnel and facilities, and to reflect minor housekeeping changes for clarification of MIT's FERC Gas Tariff.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19316 Filed 7-31-00; 8:45 am]

BILLING CODE 6717-01-M